DEPARTMENT OF EDUCATION

[Docket No.: ED-2024-SCC-0108]

Agency Information Collection Activities; Submission to the Office of Management and Budget for Review and Approval; Comment Request; School Pulse Panel 2024-25 Data Collection

AGENCY: Institute of Education Sciences (IES), Department of Education (ED).

ACTION: Notice.

SUMMARY: In accordance with the Paperwork Reduction Act (PRA) of 1995, the Department is proposing a revision of a currently approved information collection request (ICR).

DATES: Interested persons are invited to submit comments on or before January 13, 2025.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Carrie Clarady, (202) 245-6347.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: School Pulse Panel 2024-25 Data Collection.

OMB Control Number: 1850-0969.

Type of Review: Revision of a currently approved ICR.

Respondents/Affected Public: State, Local, and Tribal Governments.

Total Estimated Number of Annual Responses: 53,955.

Total Estimated Number of Annual Burden Hours: 10,175.

Abstract: The School Pulse Panel is an ongoing study conducted by the National Center for Education Statistics (NCES), part of the Institute of Education Sciences (IES), within the United States Department of Education, to collect extensive data on current and emerging issues concerning students and staff in U.S. public primary, middle, high, and combined-grade schools. Specifically, the survey will ask school leaders about topics such as staffing, college and career readiness, artificial intelligence, tutoring, summer and after-school programs, facilities, and learning strategies and recovery, among other topics. The SPP has become one of the nation's main sources of timely and reliable data on issues concerning the education environment, as reported by principals in U.S. public schools.

The preliminary activities for the 2024-25 data collection was formally cleared in January 2024 (OMB# 1850-0969 v.12) and the SPP monthly data collection package was formally cleared in June 2024 (OMB# 1850-0969 v.13). A change request (v.14) was cleared in June 2024 to make changes to the 2024-25 preliminary activities package in order to modify the July 2024 communication materials and screener survey. A change request (v.15) was cleared in August 2024 to make changes to the August 2024, September 2024, and October 2024 instruments, informed by cognitive testing results with school staff. A 30-day public comment period package (v.16) was cleared in October 2024 that included new items (within the scope of the research domains previously established) to be collected on the November 2024, December 2024, and January 2025 instruments, as well as planned items for the rest of the study year, through June 2025. A change request (v.17) was cleared in November 2024 to make changes to the December 2024, January 2025, and February 2025 instruments, informed by cognitive testing results with school staff.

The new revision (v.18) is focused on a 30-day public comment period on new items (within the scope of the research domains previously established) to be collected on the March 2025-June 2025 School Pulse Panels. These items are considered very close to final and will go through minimal testing with school personnel to examine any comprehension concerns with item wording. This testing will occur simultaneously with when the package is out for the 30-day public comment period. Feedback from this testing, as well as additional input from SPP stakeholders, will result in modifications and additions that will be reflected in future change requests. The costs to the government have not changed as a result of this amendment, nor has the projected respondent burden.

Dated: December 10, 2024.
Juliana Pearson,
PRA Coordinator, Strategic Collections and Clearance, Governance and Strategy Division, Office of Chief Data Officer, Office of Planning, Evaluation and Policy Development.

[FR Doc. 2024-29389 Filed 12-12-24; 8:45 am]

BILLING CODE 4000-01-P